DEPARTMENT OF HOMELAND SECURITY

Coast Guard

33 CFR Part 117

[CGD01-06-077]

Drawbridge Operation Regulations; Long Island, New York Waterway From East Rockaway Inlet to Shinnecock Canal, Hempstead, NY

AGENCY: Coast Guard, DHS.

ACTION: Notice of temporary deviation from regulations; request for comments.

SUMMARY: The Commander, First Coast Guard District, has issued a temporary deviation from the regulation governing the operation of the Meadowbrook State Parkway Bridge across Sloop Channel at mile 12.8, at Hempstead, New York. This deviation will test a change to the drawbridge operation schedule to determine whether a permanent change to the schedule is needed. This deviation will allow the bridge to open on signal if at least a half-hour notice is given to the New York State Department of Transportation, except that, from 7 a.m. to 8 p.m. on Saturdays, Sundays, and Federal holidays, the draw shall open every hour, on the hour, if at least a half-hour notice is given.

DATES: This deviation is effective from June 30, 2006 through September 4, 2006. Comments must reach the Coast Guard on or before November 3, 2006.

ADDRESSES: You may mail comments and related material to Commander (dpb), First Coast Guard District Bridge Branch, One South Street, Battery Park Building, New York, New York 10004, or deliver them to the same address between 7 a.m. and 3 p.m., Monday through Friday, except, Federal holidays. The First Coast Guard District, Bridge Branch, maintains the public docket for this deviation. Comments and material received from the public, as well as documents indicated in this notice as being available in the docket, will become part of this docket and will be available for inspection or copying at the First Coast Guard District, Bridge Branch, 7 a.m. to 3 p.m., Monday through Friday, except Federal holidays.

FOR FURTHER INFORMATION CONTACT: Judy Leung-Yee, Project Officer, First Coast Guard District, at (212) 668-7195.

SUPPLEMENTARY INFORMATION:

Request for Comments

We encourage you to participate in evaluating this test schedule by submitting comments or related material. If you do so, please include your name and address, identify the docket number for this deviation (CGD01-06-077), indicate the specific section of this document to which each comment applies, and give the reason for each comment. Please submit all comments and related material in an unbound format, no larger than 8½ by 11 inches, suitable for copying. If you would like to know if they reached us, please enclose a stamped, self-addressed postcard or envelope. We will consider all comments and material received during the comment period. Comments must be received by November 3, 2006.

Background and Purpose

The Meadowbrook State Parkway Bridge has a vertical clearance in the closed position of 22 feet at mean high water and 25 feet at mean low water. The existing drawbridge operation regulations are listed at 33 CFR 117.799(h).

The bridge owner, New York State Department of Transportation, requested a temporary deviation from the drawbridge operation regulations to test an alternate drawbridge operation schedule to help better balance the needs between vehicular land traffic and marine vessel traffic.

Under this temporary deviation, in effect from June 30, 2006 through September 4, 2006, the Meadowbrook State Parkway Bridge across Sloop Channel at mile 12.8, shall operate as follows:

The bridge shall open on signal if at least half-hour notice is given to the New York State Department of Transportation, except that, from 7 a.m. to 8 p.m. on Saturdays, Sundays, and Federal holidays, the draw shall open every hour, on the hour, if at least a half-hour notice is given.

This deviation from the operating regulations is authorized under 33 CFR 117.43.

Dated: June 26, 2006.
Gary Kassof,
Bridge Program Manager, First Coast Guard District.

[FR Doc. E6-10759 Filed 7-10-06; 8:45 am]

BILLING CODE 4910-15-P